DEPARTMENT OF THE INTERIOR

Bureau of Land Management

[SDM 79849]

Public Land Order No. 7837; Extension of Public Land Order No. 7174; Pactola Visitor Information Center, Pactola Marina North, and Pactola Marina South; South Dakota

AGENCY: Bureau of Land Management, Interior.

ACTION: Public land order.

SUMMARY: This order extends the duration of the withdrawal created by Public Land Order No. 7174 for an additional 20-year period, which would otherwise expire on November 27, 2015. This extension is necessary for continued protection of the investment of Federal funds and recreational values of the United States Forest Service Pactola Visitor Information Center, Pactola Marina North, and Pactola Marina South within the Black Hills National Forest, South Dakota.

DATES: Effective date: November 28, 2015.

FOR FURTHER INFORMATION CONTACT: Valerie Hunt, U.S. Forest Service, Region 2, 740 Simms Street, Golden, Colorado 80401, 303-275-5071, vbhunt@fs.fed.us, or Cynthia Eide, Bureau of Land Management, 5001 Southgate Drive, Billings, Montana 59101-4669, 406-896-5094, ceide@blm.gov. Persons who use a telecommunications device for the deaf (TDD) may call the Federal Information Relay Service (FIRS) at 1-800-877-8339 to contact either of the above individuals. The FIRS is available 24 hours a day, 7 days a week, to leave a message or question with either of the above individuals. You will receive a reply during normal business hours.

SUPPLEMENTARY INFORMATION: The purpose for which the withdrawal was first made requires this extension to continue protection of the investment of Federal funds and the recreational values of the Pactola Visitor Information Center, Pactola Marina North, and Pactola Marina South recreation areas abutting the Pactola Reservoir located in the Black Hills National Forest, Pennington County, South Dakota.

Order

By virtue of the authority vested in the Secretary of the Interior by Section 204 of the Federal Land Policy and Management Act of 1976, 43 U.S.C. 1714, it is ordered as follows:

Public Land Order No. 7174 (60 FR 58521 (1995)), which withdrew 35 acres of Federal mineral estate from location and entry under the United States mining laws, but not from leasing under the mineral leasing laws, to protect the United States Forest Service Pactola Visitor Information Center, Pactola Marina North, and Pactola Marina South, is hereby extended for an additional 20-year period. This withdrawal will expire on November 27, 2035, unless, as a result of a review conducted prior to the expiration date pursuant to Section 204(f) of the Federal Land Policy and Management Act of 1976, 43 U.S.C. 1714(f), the Secretary determines that the withdrawal shall be further extended.

Dated: July 3, 2015.
Janice M. Schneider,
Assistant Secretary—Land and Minerals Management.

[FR Doc. 2015-17478 Filed 7-15-15; 8:45 am]

BILLING CODE 3410-14-P